DEPARTMENT OF HEALTH AND HUMAN SERVICES

Food and Drug Administration

21 CFR Parts 130 and 131

[Docket No. FDA-2000-P-0126 (formerly Docket No. 2000P-0658)]

RIN 0910-AI40

International Dairy Foods Association and Chobani, Inc.: Response to the Objections and Requests for a Public Hearing on the Final Rule To Revoke the Standards for Lowfat Yogurt and Nonfat Yogurt and To Amend the Standard for Yogurt; Correction

AGENCY: Food and Drug Administration, HHS.

ACTION: Final rule; response to objections and denial of public hearing requests; removal of administrative stay; correction.

SUMMARY: The Food and Drug Administration is correcting a final rule entitled “International Dairy Foods Association and Chobani, Inc.: Response to the Objections and Requests for a Public Hearing on the Final Rule To Revoke the Standards for Lowfat Yogurt and Nonfat Yogurt and To Amend the Standard for Yogurt” that appeared in the Federal Register of December 15, 2022. The final rule revoked the standards of identity for lowfat yogurt and nonfat yogurt and amended the standard of identity for yogurt in numerous respects. The document was published with an errant reference to its effective date in the preamble discussion. This document corrects that error.

DATES: This correction is effective January 17, 2023, and applicable December 15, 2022.

FOR FURTHER INFORMATION CONTACT: Andrea Krause, Center for Food Safety and Applied Nutrition (HFS-820), Food and Drug Administration, 5001 Campus Dr., College Park, MD 20740, 240-402-2371, or Joan Rothenberg, Center for Food Safety and Applied Nutrition, Office of Regulations and Policy (HFS-024), Food and Drug Administration, 5001 Campus Dr., College Park, MD 20740, 240-402-2378.

SUPPLEMENTARY INFORMATION: In the Federal Register of Wednesday, December 15, 2022 (87 FR 765590), appearing on page 76567, in FR Doc. 2022-27040, the following correction is made:

1. On page 76567, in the third column, in the fifth sentence of the third paragraph under IV. Summary and Conclusions, “[DATE OF PUBLICATION IN THE FEDERAL REGISTER]” is corrected to read “January 17, 2023”.

Dated: December 16, 2022.
Lauren K. Roth,
Associate Commissioner for Policy.

[FR Doc. 2022-27816 Filed 12-22-22; 8:45 am]

BILLING CODE 4164-01-P